FEDERAL MARITIME COMMISSION

[Docket No. 22-35]

M.E. Dey & Co., Inc. Complainant v. Hapag-Lloyd AG and Hapag-Lloyd (America) LLC, Respondents; Notice of Filing of Amended Complaint and Assignment

Served: March 1, 2023

Notice is given that an Amended Complaint has been filed with the Federal Maritime Commission (Commission) by M.E. Dey & Co., Inc. hereinafter “Complainant,” against Hapag-Lloyd AG and Hapag-Lloyd (America) LLC. (hereinafter “Respondents”). Complainant states that it is organized and existing under the laws of Wisconsin a non-vessel-operating common carrier with a principal place of business in Milwaukee, Wisconsin. Complainant identifies the Hapag-Lloyd AG is a global ocean carrier with headquarters in Hamburg, Germany, and Hapag-Lloyd (America) LLC as a United States subsidiary and agent of Hapag AG located in Atlanta, Georgia.

Complainant alleges that Respondents violated 46 U.S.C. 41102(c) and 41104(a)(14) regarding their practices and the billing and payment of charges on the shipments of cargo, including demurrage and rail storage charges and the failure to provide chassis. An answer to the complaint is due to be filed with the Commission within twenty-five (25) days after the date of service. The full text of the complaint can be found in the Commission's Electronic Reading Room at https://www2.fmc.gov/readingroom/proceeding/22-35/.

This proceeding has been assigned to Office of Administrative Law Judges. The initial decision of the presiding officer in this proceeding shall be issued by December 26, 2023, and the final decision of the Commission shall be issued by July 10, 2024.

William Cody, Secretary.

[FR Doc. 2023-04596 Filed 3-6-23; 8:45 am]

BILLING CODE 6730-02-P